ENVIRONMENTAL PROTECTION AGENCY

[FRL-7778-3]

Casmalia Disposal Site; Notice of Proposed CERCLA Administrative De Minimis Settlement

AGENCY: Environmental Protection Agency (EPA).

ACTION: Notice; request for public comment.

SUMMARY: In accordance with section 122(i) of the Comprehensive Environmental Response, Compensation, and Liability Act, as amended (“CERCLA”), 42 U.S.C. 9622(i), the EPA is hereby providing notice of a proposed administrative de minimis settlement concerning the Casmalia Disposal Site in Santa Barbara County, California (“the Casmalia Disposal Site”). Section 122(g) of CERCLA, 42 U.S.C. 9622(g), provides EPA with the authority to enter into administrative de minimis settlements. This settlement is intended to resolve the liabilities of 192 settling parties for the Casmalia Disposal Site under CERCLA and section 7003 of the Resource Conservation and Recovery Act (“RCRA”), 42 U.S.C. 6973. For most of the parties, the settlement will also resolve the Casmalia Disposal Site-related liability for response costs incurred or to be incurred, and potential natural resource damage claims, by the United States Fish and Wildlife Service, the National Oceanic and Atmospheric Administration, and the United States Air Force. The settling parties will pay a total of $11.9 million to EPA.

DATES: EPA will receive written comments relating to the settlement until August 13, 2004. The EPA will consider all comments it receives during this period, and may modify or withdraw its consent to the settlement if any comments disclose facts or considerations indicating that the settlement is inappropriate, improper, or inadequate.

In accordance with section 7003(d) of RCRA, 42 U.S.C. 6973(d), commenters may request an opportunity for a public meeting in the affected area. The deadline for requesting a public meeting is July 19, 2004. Requests for a public meeting may be made by calling Karen Goldberg at (415) 972-3951, or e-mailing her at goldberg.karen@epa.gov, or by facsimile at (415) 947-3570.

ADDRESSES: Written comments should be addressed to Casmalia Case Team, U.S. Environmental Protection Agency Region IX, 75 Hawthorne Street (mail code SFD-7-1), San Francisco, California 94105-3901.

FOR FURTHER INFORMATION CONTACT: Additional information about the Casmalia Disposal Site and about the proposed settlement may be obtained on the Casmalia Web site at: http://yosemite.epa.gov/r9/sfund/overview.nsf or by calling Karen Goldberg at (415) 972-3951.

Dated: June 21, 2004.
Keith Takata,
Director, Superfund Division, Region IX.

[FR Doc. 04-14606 Filed 7-8-04; 8:45 am]

BILLING CODE 6560-50-P